DEPARTMENT OF HEALTH AND HUMAN SERVICES

Centers for Medicare & Medicaid Services

[CMS-5502-CN]

Medicare Program; Accelerated Development Sessions for Accountable Care Organizations—June 20, 21, and 22, 2011; Corrections

AGENCY: Centers for Medicare & Medicaid Services (CMS), HHS.

ACTION: Correction notice.

SUMMARY: This document corrects technical errors that appeared in the notice published in the May 19, 2011 Federal Register entitled “Medicare Program; Accelerated Development Sessions for Accountable Care Organizations—June 20, 21, and 22, 2011.”

FOR FURTHER INFORMATION CONTACT: Erica Tibbals, (410) 786-6457.

SUPPLEMENTARY INFORMATION:

I. Background

In FR Doc. 2011-12342 of May 19, 2011 (76 FR 28988), there were a number of technical errors that are identified and corrected in the Correction of Errors section.

II. Summary of Errors

We made technical and typographical errors in the May 19, 2011 notice (76 FR 28988 and 28989) which include the following:

• Incorrectly referenced the learning sessions as accelerated development sessions (ADSs) instead of accelerated development learning sessions (ADLSs).

• Made inadvertent errors in our description of the persons who are invited to participate in the in-person session.

• Made inadvertent errors in our description of the ways that organizations can build their capacity as an ACO.

• Made inadvertent errors in our description of the financial goal of the ADLS.

• Inadvertently referenced central standard time instead of central daylight time.

III. Correction of Errors

In FR Doc. 2011-12342 of May 19, 2011 (76 FR 28988), make the following corrections:

1. On page 28988,

a. First column,

(1) In the subject heading, the phrase “Accelerated Development Sessions” is corrected to read “Accelerated Development Learning Sessions”.

(2) In the SUMMARY, the paragraph “This notice announces the first of four accelerated development sessions (ADSs) that will provide executives with the opportunity to learn about core functions of an Accountable Care Organization (ACO) and ways to build their organization's capacity to succeed as an ACO. This 3-day, in-person ADS is to help new ACOs deliver better care and reduce costs. We invite all new or newly emerging ACOs to register a team of senior executives to participate.” is corrected to read “This notice announces the first of four accelerated development learning sessions (ADLSs) that will provide executives with the opportunity to learn about core functions of an Accountable Care Organization (ACO) and ways to build their organization's capacity to achieve the three part aim of better care for individuals, better health for populations, and lower growth in costs as an ACO. This 3-day, in-person ADLS is to help new ACOs deliver better care and reduce growth in expenditures. We invite all new or newly emerging organizations interested in becoming ACOs to register a team of senior executives to participate.”

(3) In the DATES section, lines 2 and 3, the phrase “central standard time” is corrected to read “central daylight time”.

(4) In the ADDRESSES section, line 2, the acronym “ADS” is corrected to read “ADLS”.

b. Second column,

(1) Second full paragraph,

(a) Lines 8 and 9, the phrase “save money” is corrected to read “reduce expenditures”.

(b) Lines 11 and 12, the phrase “accelerated development sessions (ADSs)” is corrected to read “accelerated development learning sessions (ADLSs)”.

(c) Line 20, the acronym “ADSs” is corrected to read “ADLSs”.

(d) Line 21, the phrase “quality outcomes” is corrected to read “outcomes”.

(2) Last paragraph, line 1, the acronym “ADS” is corrected to read “ADLS”.

c. Third column,

(1) First paragraph,

(a) Line 1, the acronym “ADS” is corrected to read “ADLS”.

(b) Lines 15 and 16, the phrase “assuming and managing risk” is corrected to read “assuming performance based risk”.

(2) Second paragraph, line 10, the phrase “ADS initiative” is corrected to read “accelerated development learning (ADL)”.

(3) Third paragraph, line 1, the acronym “ADS” is corrected to read “ADLS”.

(4) Last paragraph,

(a) Line 3, the acronym “ADS” is corrected to read “ADLS”.

(b) Last line, the acronym “ADS” is corrected to read “ADLS”.

2. On page 28989, first column,

(a) First partial paragraph, line 3, the acronym “ADS” is corrected to read “ADLS”.

(b) First full paragraph, line 1, the phrase “to the public.” is corrected to read “to all new or newly emerging organizations interested in becoming ACOs and all materials from the ADLS in-person sessions will be made publicly available.”.

(c) Last paragraph,

(1) Line 1, the acronym “ADSs” is corrected to read “ADLSs”.

(2) Line 5, the acronym “ADSs” is corrected to read “ADLSs”.

Authority: Section 1115A of the Social Security Act.

Dated: June 2, 2011.
Jacquelyn Y. White,
Director, Office of Strategic Operations and Regulatory Affairs, Centers for Medicare & Medicaid Services.

[FR Doc. 2011-14078 Filed 6-3-11; 4:15 pm]

BILLING CODE 4120-01-P